ENVIRONMENTAL PROTECTION AGENCY

[FRL-7645-9]

JEHL Cooperage Company Inc. Superfund Site; Notice of Settlement

AGENCY: Environmental Protection Agency.

ACTION: Notice of settlement.

SUMMARY: Under Section 122(h)(1) of the Comprehensive Environmental Response, Compensation, and Liability Act (CERCLA), the Environmental Protection Agency (EPA) has entered into an Agreement concerning the the Jehl Cooperage Company Inc., Superfund Site (Site) located in Memphis, Shelby County, Tennessee, with 3M Corporation, Exxon Mobil Corporation, Ashland Chemical, Inc., and H.B. Fuller Company. EPA will consider public comments on the Agreement until May 12, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887, E-mail: Batchelor.Paula@EPA.Gov.

Written comments may be submitted to Ms. Batchelor at the above address within 30 days of the date of publication.

Dated: March 19, 2004.
Rosalind H. Brown,
Chief, Superfund Information & Management Branch, Waste Management Division.

[FR Doc. 04-8227 Filed 4-9-04; 8:45 am]

BILLING CODE 6560-50-P